DEPARTMENT OF COMMERCE

Foreign-Trade Zones Board

[B-48-2016]

Foreign-Trade Zone (FTZ) 38—Spartanburg, South Carolina; Notification of Proposed Production Activity; Benteler Automotive Corporation (Automotive Suspension and Body Components); Duncan, South Carolina

The South Carolina State Ports Authority, grantee of FTZ 38, submitted a notification of proposed production activity to the FTZ Board on behalf of Benteler Automotive Corporation (Benteler), located in Duncan, South Carolina. The notification conforming to the requirements of the regulations of the FTZ Board (15 CFR 400.22) was received on June 28, 2016.

Benteler already has authority to produce automotive suspension and body components within Subzone 38F. The current request would add one finished product to the existing scope of authority. Pursuant to 15 CFR 400.14(b), additional FTZ authority would be limited to the specific finished product described in the submitted notification (as described below) and subsequently authorized by the FTZ Board.

Production under FTZ procedures could exempt Benteler from customs duty payments on the foreign-status materials/components used in export production. On its domestic sales, Benteler would be able to choose the duty rates during customs entry procedures that apply to instrument panel supports (duty rate 2.5%) for the foreign-status materials/components in the existing scope of authority. Customs duties also could possibly be deferred or reduced on foreign-status production equipment.

Public comment is invited from interested parties. Submissions shall be addressed to the Board's Executive Secretary at the address below. The closing period for their receipt is September 7, 2016.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Christopher Kemp at Christopher.Kemp@trade.gov or (202) 482-0862.

Dated: July 25, 2016.
Andrew McGilvray,
Executive Secretary.

[FR Doc. 2016-18019 Filed 7-28-16; 8:45 am]

BILLING CODE 3510-DS-P